DEPARTMENT OF HEALTH AND HUMAN SERVICES

Centers for Disease Control and Prevention

[30 DAY-42-00]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7090. Send written comments to CDC, Desk Officer; Human Resources and Housing Branch, New Executive Office Building, Room 10235; Washington, DC 20503. Written comments should be received within 30 days of this notice.

Proposed Projects

1. Silicosis, No Mas!: Evaluation of Materials Used for Outreach to Hispanic Construction Workers—New—National Institute for Occupational Safety and Health (NIOSH), Centers for Disease Control and Prevention (CDC)—Over 14,000 workers in the U.S. have died from silicosis and hundreds more add to the death toll each year. Silicosis is the third leading cause of death attributed to occupational diseases in the U.S. In the state of Texas, 300 cases of silicosis and workers exposed to silica were reported between 1990 and 1997. Among these cases, construction was one of the most frequently reported industries. Silicosis was diagnosed in workers as young as 22 years of age, and one third of the cases were found among Hispanic workers, most of whom were diagnosed with silicosis in their thirties.

Despite the alarming number of reports, few attempts have been made to educate construction workers in Texas, particularly workers of Hispanic/Latino decent. An evaluation of the outreach activities conducted during the 1996 National Campaign to Eliminate Silicosis and the Special Emphasis Program (SEP) for silicosis indicated that no effort was undertaken to meet the needs of Hispanic workers. In both events, educational outreach was directed at the mainstream industry, trade associations, employers, and labor unions. Yet, while some educational materials were directly translated into Spanish, no special efforts were directed at Hispanic workers in the course of the campaign nor in the SEP. In addition, the results of 11 focus groups recently conducted in Texas indicated that most Hispanic workers were unaware of silicosis and most knew little about the cause and health effects of silicosis. Barriers to silicosis prevention raised by the focus group participants included lack of knowledge about prevention and lack of proper protective equipment provided by their employers. While most workers in the focus groups could read either Spanish or English, there were individuals who could not read either language. Hence, other mediums of communication, such as audio or video tapes, were recommended to reach the workers.

The goal of the overall project is to increase awareness of and information about the nature, extent, and seriousness of silica exposure, and to increase the use of appropriate engineering controls and respiratory protection among construction workers in Texas. A culturally and linguistically relevant silicosis education and prevention program targeting construction workers will be developed, implemented, and evaluated. The goal of the evaluation is to determine if culturally tailored health messages are more effective than non-culturally tailored health messages in promoting changes in knowledge, attitudes, and behaviors.

Information and data obtained from this evaluation will help direct future outreach efforts in silicosis prevention among the Hispanic population. In addition, results from this study will be used to further current understanding of the effects of cultural values in the design of safety and health messages, thereby helping future development of culturally and linguistically appropriate occupational safety and health messages tailored for the Hispanic population.

The total annual burden hours are 200.

Respondents | No. of respondents | No. of responses/respondent | Avg. burden per response (in hours)
Construction workers | 600 | 1 | 20/60

Dated: June 6, 2000.
Nancy Cheal,
Acting Associate Director for Policy, Planning and Evaluation, Centers for Disease Control and Prevention (CDC).

[FR Doc. 00-14737 Filed 6-9-00; 8:45 am]

BILLING CODE 4163-18-P